ENVIRONMENTAL PROTECTION AGENCY

[FRL OP-OFA-171]

Environmental Impact Statements; Notice of Availability

Responsible Agency: Office of Federal Activities, General Information 202-564-5632 or https://www.epa.gov/nepa.

Weekly receipt of Environmental Impact Statements (EIS)

Filed March 17, 2025 10 a.m. EST Through March 24, 2025 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20250033, Draft, NYCHA, NYCHPD, NY, Fulton Elliott-Chelsea Redevelopment Project, Comment Period Ends: 05/12/2025, Contact: Anthony Howard 212-863-7248.

Dated: March 25, 2025.
Prasad Chumble,
Acting Director, Office of Federal Activities.

[FR Doc. 2025-05363 Filed 3-27-25; 8:45 am]

BILLING CODE 6560-50-P